DEPARTMENT OF HEALTH AND HUMAN SERVICES

National Institutes of Health

Center for Scientific Review; Amended Notice of Meeting

Notice is hereby given of a change in the meeting of the Center for Scientific Review Special Emphasis Panel, April 20, 2010, 12 p.m. to April 21, 2010, 5 p.m., National Institutes of Health, 6701 Rockledge Drive, Bethesda, MD 20892 which was published in the Federal Register on April 6, 2010, 75 FR 17416.

The meeting will be one day only April 20, 2010, from 8 a.m. to 8 p.m. The meeting location remains the same. The meeting is closed to the public.

Dated: April 7, 2010.
Jennifer Spaeth,
Director, Office of Federal Advisory Committee Policy.

[FR Doc. 2010-8253 Filed 4-9-10; 8:45 am]

BILLING CODE 4140-01-P